DEPARTMENT OF EDUCATION

Notice of Open Meeting and Partially Closed Meetings; Correction

AGENCY: National Assessment Governing Board, U.S. Department of Education.

ACTION: Notice; correction.

SUMMARY: The National Assessment Governing Board published a document in the Federal Register of April 27, 2005 (FR Doc. 05-8356) announcing the convening of its open and partially closed meetings of May 19-21, 2005. The document needs to be revised to reflect the extension of one of the closed meeting sessions as follows:

FOR FURTHER INFORMATION CONTACT: Munira Mwalimu (202) 357-6906.

Correction: In the Federal Register of April 27, 2005, Volume 70, Number 80, in FR Doc. 05-8356, pages 21744-21745, in the paragraph on Committee Meetings, line 1, change the end time of the Assessment Development Committee Closed Session from 2 p.m. to 2:30 p.m. and change the open time from 2 p.m. to 2:30 p.m. The sentence will now read:

“Assessment Development Committee: Closed Session—1 p.m. to 2:30 p.m.; Open Session—2:30 p.m. to 4 p.m.

In the third paragraph on SUPPLEMENTARY INFORMATION the sentence “The Assessment Development Committee will meet in closed session on May 19 from 1 p.m. to 2 p.m. to review the Statement of Work for development of a Writing Framework and Specifications for the 2011 National Assessment of Educational Progress (NAEP) Writing Assessment” is hereby amended to read “The Assessment Development Committee will meet in closed session on May 19 from 1 p.m. to 2:30 p.m. to review the Statement of Work for development of a Writing Framework and Specifications for the 2011 National Assessment of Educational Progress (NAEP) Writing Assessment.”

In the same paragraph, the concluding sentence “Such matters are protected by exemption 9(B) of section 552b(c) of Title 5 U.S.C.” shall be followed with the following new sentence: “The Assessment Development Committee will also review secure reading test passages at grade 12 for the National Assessment of Educational Progress (NAEP) 2009 Reading Assessment. This portion of the meeting must be conducted in closed session as disclosure of proposed test items from the NAEP assessments would significantly impede implementation of the NAEP program, and is therefore protected by exemption 9(B) of section 552b(c) of Title 5 U.S.C.”

Dated: May 4, 2005.
Charles E. Smith,
Executive Director, National Assessment Governing Board.

[FR Doc. 05-9210 Filed 5-6-05; 8:45 am]

BILLING CODE 4000-01-M